DEPARTMENT OF TRANSPORTATION

Federal Highway Administration

Environmental Impact Statement: Bertie and Hertford Counties, NC

AGENCY: Federal Highway Administration, Transportation.

ACTION: Notice of intent.

SUMMARY: The FHWA is issuing this notice to advise the public that an environmental impact statement will be prepared for a proposed highway project in Bertie and Hertford Counties, North Carolina.

FOR FURTHER INFORMATION CONTACT: Ms. Emily Lawton, Operations Engineer, Federal Highway Administration, P.O. Box 26806, Raleigh, North Carolina 27611. Telephone: (919) 856-4350.

SUPPLEMENTARY INFORMATION: The FHWA, in cooperation with the North Carolina Department of Transportation (NCDOT), will prepare an environmental impact statement (EIS) on a proposal to improve the existing United States Route (US) 13 corridor in the area of the Town of Ahoskie in Bertie and Hertford Counties.

The purposes of the proposed action include:

• Improving traffic flow and levels of service on the section of US 13 in the project study area.

• Relieving congestion on US 13 in the Town of Ahoskie, thereby improving safety and reducing the number of accidents.

• Improving high-speed regional travel along the US 13 intrastate corridor.

• Enhance economic development opportunities for the local area.

Alternatives under consideration include:

1. No-Build Alternative

2. Transportation Systems Management (TSM) Measures

3. Mass Transit Alternative

4. Improving the existing facility

5. Constructing a facility on new location east of existing US 13

6. Constructing a facility on new location west of existing US 13

7. A combination of widening and new location improvements.

Letters describing the proposed action and soliciting comments have been sent to appropriate Federal, State, and local agencies. A series of public meetings and a public hearing will be held. Public notice will be given of the times and places of the meetings and hearing. The draft EIS will be available for public and agency review and comment prior to the hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Emily Lawton,
Operations Engineer, Federal Highway Administration, Raleigh, North Carolina.

[FR Doc. 01-25932 Filed 10-15-01; 8:45 am]

BILLING CODE 4910-22-M